NUCLEAR REGULATORY COMMISSION

[Docket No. 50-390; NRC-2013-0266]

Tennessee Valley Authority; Watts Bar Nuclear Plant Unit 1

AGENCY: Nuclear Regulatory Commission.

ACTION: License amendment application; withdrawal.

SUMMARY: The U.S. Nuclear Regulatory Commission (NRC) has granted the request of Tennessee Valley Authority (TVA or the licensee) to withdraw its August 28, 2013, application for proposed amendment to Facility Operating License No. NPF-90 for Watts Bar Nuclear Plant (WBN), Unit 1, Rhea County, Tennessee.

ADDRESSES: Please refer to Docket ID NRC-2013-0266 when contacting the NRC about the availability of information regarding this document. You may obtain publicly-available information related to this document using any of the following methods:

• Federal Rulemaking Web site: Go to http://www.regulations.gov and search for Docket ID NRC-2013-0266. Address questions about NRC dockets to Carol Gallagher; telephone: 301-287-3422; email: Carol.Gallagher@nrc.gov. For technical questions, contact the individuals listed in the FOR FURTHER INFORMATION CONTACT section of this document.

• NRC's Agencywide Documents Access and Management System (ADAMS): You may access publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Siva Lingam, Office of Nuclear Reactor Regulation, U.S. Nuclear Regulatory Commission, Washington, DC 20555-0001; telephone: 301-415-1564; email: Siva.Lingam@nrc.gov.

SUPPLEMENTARY INFORMATION: The proposed amendment would have modified the facility technical specifications (TSs) TS 3.8.4, “DC [Direct Current] Sources-Operating,” TS 3.8.5, “DC Sources-Shutdown,” and TS 3.8.6, “Battery Cell Parameters.” The request included changes consistent with both Technical Specifications Task Force (TSTF) change traveler TSTF-360, Revision 1, “DC Electrical Rewrite” (ADAMS Accession No. ML003778381), and TSTF-500, “DC Electrical Rewrite—Update to TSTF-360” (ADAMS Accession No. ML092670242), which provided an update to the changes approved in TSTF-360. However, the proposed TS changes were based on the TSTF-360 and TSTF-500 changes that were appropriate to the WBN Unit 1 design, because the direct current electrical power distribution system referenced in the model application is significantly different than the system that exists at Watts Bar. Because of this, TVA did not utilize the model application for TSTF-500, but rather provided plant-specific justifications for the related TSTF-500 changes that were proposed in this License Amendment Request. In addition to the TSTF-360 and TSTF-500 related changes, editorial and clarification changes to TS 3.8.4, 3.8.5, and 3.8.6 were proposed in this request.

The Commission had previously issued a Notice of Consideration of Issuance of Amendment published in the Federal Register on December 10, 2013 (78 FR 74186). However, by letter dated June 20, 2014 (ADAMS Accession No. ML14178B301), the licensee withdrew the proposed changes.

For further details with respect to this action, see the application for amendment dated August 28, 2013 (ADAMS Accession No. ML13248A250), and the licensee's letter dated June 20, 2014, which withdrew the application for license amendment.

Dated at Rockville, Maryland, this 24th day of July 2014.
For the Nuclear Regulatory Commission.
Siva P. Lingam,
Project Manager, Watts Bar Special Projects Branch, Division of Operating Reactor Licensing, Office of Nuclear Reactor Regulation.

[FR Doc. 2014-18202 Filed 7-31-14; 8:45 am]

BILLING CODE 7590-01-P